DEPARTMENT OF THE INTERIOR

Bureau of Land Management

[L16100000 DT0000 LXSS036E0000 20X LLMTC020000]

Notice of Availability of the Record of Decision and Approved Resource Management Plan Amendment for the Miles City Field Office, Montana

AGENCY: Bureau of Land Management, Interior.

ACTION: Notice of availability.

SUMMARY: In accordance with the National Environmental Policy Act of 1969, as amended, and the Federal Land Policy and Management Act of 1976, as amended, the Bureau of Land Management (BLM) Montana Miles City Field Office has prepared a Record of Decision and Amendment to the 2015 Miles City Field Office Approved Resource Management Plan (RMP). This effort is in response to a United States District Court for the District of Montana opinion and order (Western Organization of Resource Councils, et al. v. BLM; 3/26/2018 and 7/31/2018). By this notice, the BLM is announcing the availability of the Record of Decision and Approved RMP Amendment.

ADDRESSES: Copies of the Record of Decision and Approved RMP Amendment are available at the Miles City Field Office at the Miles City Field Office, 111 Garryowen Road, Miles City, MT 59301, or may be viewed online at: https://go.usa.gov/xmbE4.

FOR FURTHER INFORMATION CONTACT: Irma Nansel, RMP Supplemental EIS Project Manager, Miles City Field Office, at telephone: (406) 233-3653, or at the above Miles City mailing address or website. Persons who use a telecommunications device for the deaf (TDD) may call the Federal Relay Service (FRS) at 1-800-877-8339 to contact Ms. Nansel during normal business hours. The FRS is available 24 hours a day, 7 days a week, to leave a message or question. You will receive a reply during normal business hours.

SUPPLEMENTARY INFORMATION: The 2015 Miles City Approved RMP provides a single, comprehensive land use plan that guides management of BLM-administered lands and minerals in the Miles City Field Office, which consists of approximately 2.7 million acres of BLM surface land and 11.9 million acres of BLM mineral estate (11.7 million acres of subsurface Federal mineral coal estate) across 17 counties in eastern Montana.

The RMP Amendment approved by the Record of Decision includes land use allocations of areas acceptable for further consideration of leasing for coal and those that are not. The Approved RMP Amendment is Alternative B from the Supplemental EIS, which allocates 1,214,380 acres as areas acceptable for further consideration of leasing for coal and 530,420 acres that are not acceptable.

The Notice of Availability for the Proposed Amendment to the Approved RMP for the Miles City Field Office was published in the Federal Register on October 4, 2019 (84 FR 53171), which initiated a 30-day protest period and a 60-day Governor's Consistency Review period. The BLM received six timely protest submissions. All protests have been resolved and/or dismissed. For a full description of the issues raised during the protest period and how they were addressed, please refer to the Director's Protest Resolution Report, which is available at the previously listed website (see ADDRESSES).

Authority: 43 CFR 1610.5.

John Mehlhoff,
State Director, Montana/Dakotas BLM.

[FR Doc. 2019-26023 Filed 11-29-19; 8:45 am]

BILLING CODE 4310-DN-P